Title 3—

The President

Executive Order 13301 of May 14, 2003

Increasing the Number of Members on the Intelligence Oversight Board

By the authority vested in me as President by the Constitution and the laws of the United States of America, it is hereby ordered that Executive Order 12863 of September 13, 1993, as amended by Executive Order 13070 of December 16, 1997, is further amended by deleting the word “four” from the first sentence of section 2.1 and inserting in its place the word “five”.

B

THE WHITE HOUSE,

May 14, 2003.

[FR Doc. 03-12661

Filed 5-16-03; 8:45 am]

Billing code 3195-01-P